DEPARTMENT OF TRANSPORTATION

Federal Aviation Administration

Small Airplane Directorate Policy on Static Strength Substantiation of Composite Airplane Structure

AGENCY: Federal Aviation Administration, DOT.

ACTION: Notice of policy statement.

SUMMARY: This document announces the issuance of a policy for static strength substantiation of composite airplane structure. This material is neither mandatory nor regulatory in nature and does not constitute a regulation.

DATES: The Small Airplane Directorate issued a proposed policy on July 30, 2001. On August 7, 2001, the Small Airplane Directorate published the proposed policy for public comments. We reopened the comment period with a notice published on September 26, 2001, and resolved the comments. The final policy becomes effective on the issue date, which is December 21, 2001.

ADDRESSES: Copies of the policy statement, PS-ACE100-2001-006, may be requested from the following: Small Airplane Directorate, Standards Office (ACE-110), Aircraft Certification Service, Federal Aviation Administration, 901 Locust Street, Room 301, Kansas City, MO 64106. The policy statement will also be available on the Internet at the following address: http://www.faa.gov/certification/aircraft/small_airplanes_advisory.html.

FOR FURTHER INFORMATION CONTACT: Lester Cheng, Federal Aviation Administration, Small Airplane Directorate, Regulations and Policy Branch, ACE-111, 901 Locust, Room 301, Kansas City, Missouri 64106; telephone 316-946-4111; fax 316-946-4407; e-mail Lester.Cheng@faa.gov.

Issued in Kansas City, Missouri on January 14, 2002.
James E. Jackson,
Acting Manager, Small Airplane Directorate, Aircraft Certification Service.

[FR Doc. 02-2629 Filed 2-1-02; 8:45 am]

BILLING CODE 4910-13-P